DEPARTMENT OF THE INTERIOR

Bureau of Land Management

[223.LLAK941200.L1440000.ET0000; AA-82862]

Public Land Order No. 7908; Extension of Public Land Order No. 7531; King Salmon Environmental Remediation Project, Alaska

AGENCY: Bureau of Land Management, Interior.

ACTION: Public Land Order.

SUMMARY: This Public Land Order (PLO) extends the duration of the withdrawal created by PLO No. 7531, which would otherwise expire on August 5, 2022, for an additional 20-year term. PLO No. 7531 withdrew 1.25 acres of public land from settlement, sale, location, or entry under the public land laws, including the United States mining laws, but not from leasing under the mineral leasing laws, subject to valid existing rights, for the United States Air Force (USAF) to protect the King Salmon Remediation Project.

DATES: This PLO takes effect on August 6, 2022.

FOR FURTHER INFORMATION CONTACT: Chelsea Kreiner, BLM Alaska State Office, 222 West Seventh Avenue, Mailstop 13, Anchorage, AK 99513-7504, (907) 271-4205, or ckreiner@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The purpose for which the withdrawal was first made requires this extension to continue the protection of the King Salmon Environmental Remediation Project in King Salmon, Alaska.

Order

By virtue of the authority vested in the Secretary of the Interior by Section 204 of the Federal Land Policy and Management Act of 1976, 43 U.S.C. 1714, it is ordered as follows:

1. Subject to valid existing rights, PLO No. 7531, (67 FR 50894 (2002)), which withdrew 1.25 acres of public land from settlement, sale, location, or entry under the public land laws, including the United States mining laws, but not from leasing under the mineral leasing laws, subject to valid existing rights, and reserved it for environmental remediation and protection by the United States Air Force, is hereby extended for an additional 20-year period.

2. The withdrawal extended by this Order will expire on August 5, 2042, unless, as a result of a review conducted prior to the expiration date, pursuant to Section 204(f) of the Federal Land Policy and Management Act of 1976, 43 U.S.C. 1714(f), the Secretary determines that the withdrawal shall be further extended.

Tanya Trujillo,
Assistant Secretary for Water and Science.

[FR Doc. 2022-13443 Filed 6-22-22; 8:45 am]

BILLING CODE 4310-JA-P